DEPARTMENT OF THE INTERIOR

Bureau of Land Management

[OR-030-1020-PG; HAG 05-0174]

AGENCY: Bureau of Land Management (BLM), Vale District.

ACTION: Meeting notice change for the John Day/Snake Resource Advisory Council.

SUMMARY: The John Day/Snake Resource Advisory Council (JDSRAC) meeting scheduled for September 21, 2005, in Pendleton, Oregon, has been rescheduled to September 12, 2005. The meeting will be held at the Geiser Grand Hotel, 1996 Main Street, Baker City, Oregon. The meeting may include such topics as off highway vehicle, noxious weeds, planning, Sage-grouse, mining and other matters that may come before the council. A field trip is scheduled for September 13, 2005 to discuss mining operations on public lands in the Baker City area.

The meeting is open to the public. Public comment is scheduled for 11 a.m. to 11:15 a.m. (Pacific standard time) September 12, 2005. For a copy of the information to be distributed to the JDSRAC members, please submit a written request to the BLM Vale District Office 10 days prior to the meeting.

FOR FURTHER INFORMATION CONTACT: Additional information concerning the JDSRAC may be obtained from Debbie Lyons, Public Affairs Officer, BLM Vale District Office, 100 Oregon Street, Vale, Oregon 97918, (541) 473-6218 or e-mail Debra_Lyons@or.blm.gov.

Dated: July 27, 2005.
David R. Henderson,
Vale District Manager.

[FR Doc. 05-15276 Filed 8-2-05; 8:45 am]

BILLING CODE 4310-33-P